DEPARTMENT OF ENERGY

10 CFR Parts 429 and 430

[Docket Number EERE-2012-BT-STD-0027]

RIN 1904-AC81

Energy Conservation Standards for Residential Dehumidifiers: Public Meeting and Availability of the Framework Document

AGENCY: Department of Energy, Office of Energy Efficiency and Renewable Energy.

ACTION: Proposed rule; extension of public comment period.

SUMMARY: This document announces that the period for submitting comments on the dehumidifier framework document is extended to October 17, 2012.

DATES: DOE will accept comments, data, and information on the dehumidifier framework received no later than October 17, 2012.

ADDRESSES: Any comments submitted must identify the dehumidifier framework document and provide docket number EERE-2012-BT-STD-0027. Comments may be submitted using any of the following methods:

• Federal eRulemaking Portal: http://www.regulations.gov. Follow the instructions for submitting comments.

• Email: ResDehumidifier2012STD0027@ee.doe.gov. Include docket number EERE-2011-BT-STD-0027 and/or RIN 1904-AC81 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue SW., Washington, DC 20585-0121. Telephone: (202) 586-2945. Please submit one signed original paper copy.

• Hand Delivery/Courier: Ms. Brenda Edwards, U.S. Department of Energy, Building Technologies Program, 950 L'Enfant Plaza SW., 6th Floor, Washington, DC 20024. Please submit one signed original paper copy.

Docket: For access to the docket to read background documents or comments received, please call Ms. Brenda Edwards at the above telephone number for additional information.

FOR FURTHER INFORMATION CONTACT: Requests for additional information may be sent to Mr. Stephen L. Witkowski, U.S. Department of Energy, Office of Energy Efficiency and Renewable Energy, Building Technologies Program, EE-2J, 1000 Independence Avenue SW., Washington, DC 20585-0121. Telephone: 202-586-7463. Email: Stephen.Witkowski@ee.doe.gov.

In the office of the General Counsel, contact Ms. Elizabeth Kohl, U.S. Department of Energy, Office of the General Counsel, 1000 Independence Ave. SW., Room 6A-179, Washington, DC 20585. Telephone: 202-586-7796; Email: Elizabeth.Kohl@hq.doe.gov.

SUPPLEMENTARY INFORMATION: On August 17, 2012, DOE published a notice of availability of a framework document to consider energy conservation standards for dehumidifiers. (77 FR 49739) The notice provided for the submission of comments by September 17, 2012. Commenters stated that the public meeting was scheduled for September 24, 2012, and that the comment period should extend past the public meeting date. DOE has determined that an extension of the public comment period is appropriate for this reason and is hereby extending the comment period. DOE will consider any comments received by October 17, 2012.

Further Information on Submitting Comments

Under 10 CFR 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) A description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on August 22, 2012.
Steven Chalk,
Acting Deputy Assistant Secretary, Energy Efficiency and Renewable Energy.

[FR Doc. 2012-21171 Filed 8-27-12; 8:45 am]

BILLING CODE 6450-01-P